DEPARTMENT OF AGRICULTURE

Forest Service

Black Hills National Forest Advisory Board

AGENCY: USDA Forest Service.

ACTION: Notice of cancellation of meetings of the Black Hills National Forest Advisory Board.

SUMMARY: The U. S. Department of Agriculture, Forest Service, Black Hills National Forest was required to cancel several meetings of the Black Hills National Forest Advisory Board (Board), while awaiting approval of the Board's re-charter package submitted to the Secretary, U.S. Department of Agriculture, during 2011. Meetings that were published in the Federal Register, Volume 75, Number 240, Wednesday, December 15, 2010, page 78209, and subsequently cancelled were scheduled for the following dates:

Wednesday, August 17, 2011 (Summer Field Trip);

Wednesday, September 21, 2011;

Wednesday, October 19, 2011;

Wednesday, November 16, 2011;

Wednesday, January 4, 2012.

A Decision Memorandum re-establishing the Black Hills National Forest Advisory Board was signed by the Secretary of the Department of Agriculture on February 1, 2012. The 2012 meeting schedule for the Board was published in the Federal Register, Volume 77, Number 34, Tuesday, February 21, 2012, pages 9889-9890.

FOR FURTHER INFORMATION CONTACT: Marie Curtin, Planning and Public Affairs, USDA, Forest Service, Black Hills National Forest by telephone at (605) 673-9324, by fax at (605) 673-9208, or by email at mcurtin@fs.fed.us. Individuals who use telecommunication devices for the deaf (TDD) may call the Federal Information Relay Service (FIRS) at 1-800-877-8339 between 8 a.m. and 8 p.m., Eastern Standard Time, Monday through Friday.

Dated:April 9, 2012.
Craig Bobzien,
Forest Supervisor .

[FR Doc. 2012-9116 Filed 4-16-12; 8:45 am]

BILLING CODE 3410-11-P